POSTAL REGULATORY COMMISSION

[Docket No. R2013-11; Order No. 3103]

Rate Adjustment

AGENCY: Postal Regulatory Commission.

ACTION: Notice.

SUMMARY: The Commission is noticing a recent Postal Service filing concerning the removal of the exigent surcharge from existing rates on Sunday, April 10, 2016. This notice informs the public of the filing, invites public comment, and takes other administrative steps.

DATES: Comments are due: March 16, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Commission Action

III. Ordering Paragraphs

I. Introduction

On February 25, 2016, the Postal Service, in accordance with Order No. 1926, filed notice of its intention to remove the exigent surcharge from existing rates on Sunday, April 10, 2016.¹ The removal date is based on the Postal Service's estimate that the surcharge-related revenue limitation will be reached on Saturday, April 9, 2016, as well as past practice with respect to rate changes and other implementation considerations. Id. at 2-4.

¹ See Notice of the United States Postal Service of Removal of the Exigent Surcharge, February 25, 2016 (Notice). The Postal Service conditions removal on the absence of Congressional action or the courts making the exigent surcharge part of the base rate or extending it. Notice at 1.

The Notice includes Attachment A, which updates the Market Dominant section of the Mail Classification Schedule with the prices that will take effect upon removal of the exigent surcharge. Id. Attachment A at 1. The Postal Service represents that the Commission approved these prices in Docket No. R2015-4.² The Postal Service states that the prices were made available to mailers on Postal Explorer and RIBBS on February 5, 2016. Notice at 4.

² Id. See Docket No. R2015-4, Order on Revised Price Adjustments for Standard Mail, Periodicals, and Package Services Products and Related Mail Classification Changes, May 7, 2015 (Order No. 2472), Attachment.

II. Commission Action

Establishment of public comment period. The Commission acknowledges that the removal of the exigent surcharge does not meet the definition of any of the typical Type 1 rate adjustments identified in 39 CFR part 3010. Because this removal is a follow-on from a previous Type 3 rate adjustment, the rules applicable to the annual limitation are not applicable to this rate adjustment. However, the Commission finds it appropriate to provide a period of 20 days from the date of the Postal Service's filing for public comment, consistent with Type 1 rate adjustments. See 39 CFR 3010.11(a)(5). Comments by interested persons are due no later than March 16, 2016. Commenters may address the consistency of the prices and product descriptions in Attachment A to the Notice with the prices and product descriptions in the Attachment to Order No. 2472, and any other relevant issues concerning the Postal Service's filings. Interested persons are encouraged to review the Postal Service's Notice and Attachment A in their entirety.

Participation and designated filing method. Interested persons may submit comments electronically via the Commission's Filing Online system, unless a waiver is obtained. Instructions for obtaining an account to file documents online may be found on the Commission's Web site (http://www.prc.gov), or by contacting the Commission's Docket Section staff at 202-789-6846. Persons without access to the Internet or otherwise unable to file documents electronically may request a waiver of the electronic filing requirement by filing a motion for waiver with the Commission. The motion may be filed along with any comments the person may wish to submit in this docket. Persons requesting a waiver may file hardcopy documents with the Commission either by mailing or by hand delivery to the Office of the Secretary, Postal Regulatory Commission, 901 New York Avenue NW., Suite 200, Washington, DC 20268-0001 during regular business hours by the date specified for such filing. Any person needing assistance in requesting a waiver may contact the Docket Section at 202-789-6846. Hardcopy documents filed in this docket will be scanned and posted on the Commission's Web site.

Appointment of Public Representative. Pursuant to 39 U.S.C. 505, James Waclawski will continue to serve as an officer of the Commission (Public Representative) to represent the interests of the general public in this proceeding.

Continuation of bi-weekly reporting. Pursuant to Order No. 3030, the Postal Service is to continue filing bi-weekly estimates of the incremental and cumulative surcharge revenue.³

³ Second Order on Surcharge Revenue Reporting, January 15, 2016, at 2 (Order No. 3030).

III. Ordering Paragraphs

It is ordered:

1. Interested persons are invited to comment on the Postal Service's removal of the exigent surcharge no later than March 16, 2016.

2. James Waclawski will continue to serve as an officer of the Commission (Public Representative) to represent the interests of the general public in this proceeding.

3. The Secretary shall arrange for publication of this order in the Federal Register.

By the Commission.
Stacy L. Ruble,
Secretary.

[FR Doc. 2016-04621 Filed 3-2-16; 8:45 am]

BILLING CODE 7710-FW-P